DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Administrative Services.

Title: DOC National Environmental Policy Act Environmental Questionnaire and Checklist.

OMB Control Number: 0690-0028.

Form Number(s): CD-593.

Type of Request: Regular submission.

Number of Respondents: 200.

Average Hours per Response: 2 hours.

Burden Hours: 400.

Needs and Uses: The Environmental Questionnaire and Checklist is designed to be used by both grants applicants and Federal entities proposing construction or infrastructure projects. The questions address a diverse range of potential environmental issues covered under Federal environmental laws and regulations and are designed to provide a reviewer enough information to determine the level of NEPA documentation necessary to comply with the law.

Affected Public: Business or other for-profit organizations; not-for-profit institutions; individuals and households.

Frequency: On occasion.

Respondent's Obligation: Required to obtain a benefit.

OMB Desk Officer: Nicholas Fraser, (202) 395-5887.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Nicholas Fraser, OMB Desk Officer, FAX number (202) 395-5806, or via the Internet at Nicholas_A._Fraser@omb.eop.gov.

Dated: May 21, 2010.
Gwellnar Banks,
Management Analyst, Office of the Chief Information Officer.

[FR Doc. 2010-12695 Filed 5-26-10; 8:45 am]

BILLING CODE 3510-NW-P